DEPARTMENT OF THE INTERIOR

National Park Service

[2253-665]

Notice of Inventory Completion: Department of Anthropology, University of Massachusetts, Amherst, MA

AGENCY: National Park Service, Interior.

ACTION: Notice.

SUMMARY: The University of Massachusetts Amherst, Department of Anthropology has completed an inventory of human remains, in consultation with the appropriate Indian tribes, and has determined that there is a cultural affiliation between the human remains and present-day Indian tribes. Representatives of any Indian tribe that believes itself to be culturally affiliated with the human remains may contact the University of Massachusetts Amherst, Department of Anthropology. Repatriation of the human remains to the Indian tribes stated below may occur if no additional claimants come forward.

DATES: Representatives of any Indian tribe that believes it has a cultural affiliation with the human remains should contact the University of Massachusetts Amherst, Department of Anthropology at the address below by March 7, 2012.

ADDRESSES: Robert Paynter, Repatriation Committee Chair, telephone (413) 545-2221, or Rae Gould, Repatriation Coordinator, telephone (413) 545-2702, University of Massachusetts, Department of Anthropology, 201 Machmer Hall, 240 Hicks Way, Amherst, MA 01003.

SUPPLEMENTARY INFORMATION: Notice is here given in accordance with the Native American Graves Protection and Repatriation Act (NAGPRA), 25 U.S.C. 3003, of the completion of an inventory of human remains in the possession of the University of Massachusetts Amherst, Department of Anthropology. The human remains were purchased by Harris Hawthorn Wilder of Smith College. They were later transferred to the University of Massachusetts Amherst for permanent curation in the 1970s.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Massachusetts Amherst, Department of Anthropology professional staff in consultation with representatives of the Buena Vista Rancheria of Me-Wuk Indians of California; California Valley Miwok Tribe (Sheep Ranch Rancheria of Me-Wuk Indians), California; Chicken Ranch Rancheria of Me-Wuk Indians, California; Elem Indian Colony of Pomo Indians of the Sulphur Bank Rancheria, California; Federated Indians of Graton Rancheria (Federated Coast Miwok), California; Ione Band of Miwok Indians of California; Jackson Rancheria of Me-Wuk Indians, California; Middletown Rancheria (Lake Miwok), California; Picayune Rancheria of Chukchansi Indians, California; Santa Rosa Indian Community of the Santa Rosa Rancheria, California; Shingle Springs Band of Miwok Indians, Shingle Springs Rancheria (Verona Tract), California; Table Mountain Rancheria, California; and the United Auburn Indian Community of the Auburn Rancheria of California (hereinafter referred to as “The Tribes”). Representatives of the University of Massachusetts Amherst, Department of Anthropology also contacted the Tuolumne Band of Me-Wuk Indians of the Tuolumne Rancheria of California; Wilton Rancheria, California; and the Tule River Indian Tribe of the Tule River Reservation, California.

History and Description of the Remains

In the early 1900s, two crania were purchased by Harris Hawthorn Wilder of Smith College, Northampton, MA, from Ward's Natural Science Establishment of Rochester, NY, and became part of the Wilder Collection at Smith College. They were transferred to the University of Massachusetts Amherst, Department of Anthropology in the 1970s for permanent curation. Both crania are represented by a complete skull and mandible. No known individuals were identified. No associated funerary objects are present.

Ward's Natural Science Establishment, which is still in operation today, could not provide further information about these two individuals. The Rush Rhees library, which holds the older collection of Ward's materials and catalogs, did not provide any further information either. Harris Hawthorn Wilder recorded in his accession books that both skulls were of the “Malkelkos” Indians of California.

Multiple lines of evidence, guided by tribal consultations, including geographic and linguistic sources, maps and oral tradition, verified that the Malkelkos (also known as Mokelko, Moquelemnes, Moguelemnes, Muquelues, Machalumbry and Magnele in historical and ethnographic literature) were Plains Miwok and/or Yokut-speaking people with multiple villages concentrated along the Mokelumne River and Dry Creek, east of the Suisun Bay, in California.

Determinations Made by the University of Massachusetts Amherst, Department of Anthropology

Officials of the University of Massachusetts Amherst, Department of Anthropology have determined that:

• Pursuant to 25 U.S.C. 3001(9), the human remains described in this notice represent the physical remains of two individuals of Native American ancestry.

• Pursuant to 25 U.S.C. 3001(2), there is a relationship of shared group identity that can be reasonably traced between the Native American human remains and The Tribes.

Additional Requestors and Disposition

Representatives of any Indian tribe that believes itself to be culturally affiliated with the human remains should contact Robert Paynter, Repatriation Committee Chair, telephone (413) 545-2221, or Rae Gould, Repatriation Coordinator, telephone (413) 545-2702, University of Massachusetts, Department of Anthropology, 201 Machmer Hall, 240 Hicks Way, Amherst, MA 01003, before March 7, 2012. Repatriation of the human remains to the Ione Band of Miwok Indians of California; Picayune Rancheria of Chukchansi Indians, California; and Santa Rosa Indian Community of the Santa Rosa Rancheria, California, may proceed after that date if no additional claimants come forward.

The University of Massachusetts Amherst, Department of Anthropology is responsible for notifying The Tribes that this notice has been published.

Dated: January 31, 2012.
Sherry Hutt,
Manager, National NAGPRA Program.

[FR Doc. 2012-2533 Filed 2-3-12; 8:45 am]

BILLING CODE 4312-50-P